SMALL BUSINESS ADMINISTRATION

National Regulatory Fairness Hearing Region III Regulatory Fairness Board

AGENCY: U.S. Small Business Administration (SBA).

ACTION: Notice of open Hearing of the Regional Small Business Regulatory Fairness Board.

SUMMARY: The SBA Office of the National Ombudsman is issuing this notice to announce the location, date, and time of the National Regulatory Fairness Hearing. This hearing is open to the public.

DATES: The hearing will be held on Monday, August 28, 2017, from 1:30 p.m. to 4:30 p.m. (EDT).

ADDRESSES: The meeting will be held at Patriots Plaza One, 395 E. Street SW., in the Hearing Room, Washington, DC 20201. Persons attending the hearing must enter the building with a valid photo identification.

FOR FURTHER INFORMATION CONTACT: The hearing is open to the public; however, advance notice of attendance is requested. Anyone wishing to attend and/or make a presentation to the Region III Regulatory Fairness Board must contact Ms. Elahe Zahirieh, Case Management Specialist, by August 15, 2017 in writing, by fax, or email at ombudsman-events@sba.gov in order to be placed on the agenda. For further information, please contact Ms. Zahirieh, Office of the National Ombudsman, 409 3rd Street SW., Suite 5116, Washington, DC 20416 by phone (202) 205-2417 and fax (202) 481-5719. Additionally, if you need accommodations because of a disability, translation services, or require additional information, please contact Ms. Zahirieh.

SUPPLEMENTARY INFORMATION: Pursuant to the Small Business Regulatory Enforcement Fairness Act (Pub. L. 104-121), Sec. 222, SBA announces the hearing for Small Business Owners, Business Organizations, Trade Associations, Chambers of Commerce and related organizations serving small business concerns to report experiences regarding unfair or excessive Federal regulatory enforcement issues affecting small businesses.

For more information on the Office of the National Ombudsman, see our Web site at www.sba.gov/ombudsman.

Dated: July 21, 2017.
Richard W. Kingan,
SBA Committee Management Officer (Acting).

[FR Doc. 2017-16003 Filed 7-28-17; 8:45 am]

BILLING CODE P